DEPARTMENT OF HEALTH AND HUMAN SERVICES

National Institutes of Health

Center for Scientific Review; Amended Notice of Meeting

Notice is hereby given of a change in the meeting of the Center for Scientific Review Special Emphasis Panel, August 14, 2000, 3 p.m. to August 14, 2000, 4:30 p.m. NIH, Rockledge 2, Bethesda, MD 20892 which was published in the Federal Register on August 3, 2000 65 FR 47743-47744.

The meeting will be held on August 17, 2000. The meeting times and location remain the same. The meeting is closed to the public.

Dated: August 4, 2000.
LaVerne Y. Stringfield,
Director, Office of Federal Advisory Committee Policy.

[FR Doc. 00-20377 Filed 8-10-00; 8:45 am]

BILLING CODE 4140-01-M